DEPARTMENT OF THE INTERIOR

National Park Service

[NPS-AKR-GLBA-NPS0033098; PX.XGLBARP18.00.1 (222); OMB Control Number 1024-0281]

Agency Information Collection Activities: Glacier Bay National Park and Preserve Bear Sighting and Encounter Reports

AGENCY: National Park Service, Interior.

ACTION: Notice of information collection; request for comment.

SUMMARY: In accordance with the Paperwork Reduction Act of 1995, we, the National Park Service (NPS) are proposing to renew an information collection.

DATES: Interested persons are invited to submit comments on or before April 18, 2022.

ADDRESSES: Please provide a copy of your comments to the NPS Information Collection Clearance Officer (ADIR-ICCO), 12201 Sunrise Valley Drive, (MS -242) Reston, VA 20191 (mail); or phadrea_ponds@nps.gov (email). Please include “1024-0281” in the subject line of your comments.

FOR FURTHER INFORMATION CONTACT: To request additional information about this ICR, contact Margaret Hazen, Glacier Bay National Park and Preserve, Supervisory Park Ranger, P.O. Box 140, Gustavus, AK 99826; or by email at Margaret_Hazen@nps.gov; or by telephone at 907-697-2608. Individuals who are hearing or speech impaired may call theFederalRelay Service at 1-800-877-8339 for TTY assistance.

SUPPLEMENTARY INFORMATION: In accordance with the Paperwork Reduction Act of 1995 (PRA, 44 U.S.C. 3501 et seq.) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service Organic Act, 54 U.S.C. 100101(a) et seq., requires that the NPS preserve national parks for the enjoyment, education, and inspiration of this and future generations. In order to monitor resources and wildlife in the Glacier Bay National Park and Preserve (GLBA) and to enhance the safety of future visitors, the park records all bear sightings and interactions by visitors.

Authorized by 36 CFR 1-7, 12 and 13, Glacier Bay National Park and Preserve (GLBA) collects bear sighting data submitted by park visitors. The information collected is used to determine bear movements, habitat use, and species distribution to minimize conflict between bears and visitors within the park. NPS Forms 10-405, “Tatshenshini—Alsek River Bear Report” and 10-406, “Bear Information Management Report” exercises our statutory authority and responsibility to protect the park areas we administer and to manage public use.

Bear sighting data provides the park with important information used to determine bear movements, habitat use, and species distribution. This information is important for backcountry management and planning, field research planning, and educational outreach for visitors. Bear-human interaction data is vital to understanding bear responses to people, detecting changes in bear behavior, and identifying areas of high bear-human conflict. Obtaining immediate information on bear-human conflicts allows managers to respond promptly to mitigate further conflicts. Proactive mitigation includes notifying other backcountry users, issuing advisories or recommendations, or issuing closures to prevent further conflicts and maintain public safety. Observations and interactions by visitors are recorded using two forms: (1) NPS Form 10-405“Tatshenshini—Alsek River Bear Report” collects information regarding bear sightings within GLBA and (2) NPS Form 10-406 “Bear Information Management Report” collects information when a bear enters a camp, approaches the group, damages gear, obtains food, and/or acts in an aggressive or threatening manner towards the group.

Title of Collection: Glacier Bay National Park and Preserve Bear Sighting and Encounter Reports.

OMB Control Number: 1024-0281.

Form Number: 10-405, “Tatshenshini—Alsek River Bear Report” and 10-406, “Bear Information Management Report”.

Type of Review: Extension of a currently approved collection.

Description of Respondents: Backcountry and frontcountry visitors to Glacier Bay National Park and Preserve.

Total Estimated Number of Annual Respondents: 50.

Total Estimated Number of Annual Responses: 50.

Estimated Completion Time per Response: Average 5 minutes.

Total Estimated Number of Annual Burden Hours: 4.

Respondent's Obligation: Voluntary.

Frequency of Collection: On occasion.

Total Estimated Annual Nonhour Burden Cost: None.

An agency may not conduct, or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-03337 Filed 2-15-22; 8:45 am]

BILLING CODE 4312-52-P